DEPARTMENT OF HOUSING AND URBAN DEVELOPMENT

[Docket No. FR-7034-N-28]

14-Day Notice of Emergency Approval of an Information Collection: Eviction Protection Grant Program, OMB Control No.: 2528-New

AGENCY: Office of the Chief Information Officer, HUD.

ACTION: Emergency notice.

SUMMARY: In accordance with the Paperwork Reduction Act, HUD has requested from the Office of Management and Budget (OMB) emergency approval of the information collection described in this notice. HUD is requesting comment from all interested parties on the proposed collection of information. The purpose of this notice is to allow for 14 days of public comment.

DATES: Comments Due Date: June 28, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna Guido, Reports Management Officer, QDAM, Department of Housing and Urban Development, 451 7th Street SW, Washington, DC 20410; email Anna Guido at Anna.P.Guido@hud.gov or telephone 202-402-5535. Persons with hearing or speech impairments may access this number through TTY by calling the toll-free Federal Relay Service at (800) 877-8339. This is not a toll-free number. Copies of available documents submitted to OMB may be obtained from Ms. Guido.

SUPPLEMENTARY INFORMATION: This notice informs the public that HUD has submitted to OMB a request for approval of the information collection described in Section A.

A. Overview of Information Collection

Title of Information Collection: Eviction Protection Grant Program.

OMB Approval Number: 2528-New.

Type of Request: New.

Form Number: Application for Federal Assistance, SF424; Disclosure of Lobbying Activities, SFLLL; HUD Detailed Budget Worksheet, 424 CBW; HUD 2880 and NOFO narrative.

Description of the need for the information and proposed use: This information is collected in connection with HUD's Eviction Protection Grant Program and will be used by HUD to determine that the grant applicant meets the requirements of the Notice of Funding Opportunity (NOFO). Information collected is also used to assign points for awarding grant funds on a competitive and equitable basis. The information is collected via a narrative and the budget form.

Information collection | Number of respondents | Frequency of response | Responses per year | Average burden hours per response | Annual burden hours | Hourly cost per response (hourly wage rate) | Total annual respondent cost
Pre award
NOFO application narrative | 100 | 1 | 100 | 40 | 4,000 | $52.36 | $209,440
Application for Federal Assistance, SF424 |  |  |  |  |  | 0.00 | 0.00
Disclosure of Lobbying Activities, SFLL |  |  |  |  |  | 0.00 | 0.00
Detailed Budget Worksheet, 424 CBW | 100 | 1 | 100 | 3.12 | 312 | 52.36 | 16,336.32
Disclosure/Update Report (Form HUD-2880) | 100 | 1 | 100 | 2 | 200 | 52.36 | 10,472
Total Pre award | 100 | 1 | 100 | 45.12 | 4,500 | 52.36 | 236,248.32
Post award
Grant work plan | 20 | 1 | 20 | 2 | 40 | 52.36 | 2,094
Detailed Budget Worksheet, 424 CBW | 20 | 1 | 20 | 3.12 | 62.4 | 52.36 | 3,267
Grant reporting | 20 | 4 | 80 | 2 | 160 | 52.36 | 8,378
Total Post award | 20 | 5 | 100 | 7.12 | 262.4 | 52.36 | 13,740
Totals | 100 | 6 | 200 | 52.24 | 4,720 | 52.36 | 249,988

HUD is required to develop a competitive grant program to fund nonprofit or governmental entities to provide legal assistance (including assistance related to pretrial activities, trial activities, post-trial activities and alternative dispute resolution) at no cost to eligible low-income tenants at risk of or subject to eviction.

In connection with the COVID-19 emergency, the CARES Act was enacted on March 28, 2020. It placed a moratorium on eviction in all federally-assisted housing and federally-backed mortgages through July 24, 2020. The expiration of that moratorium was followed by an Order from the Centers of Disease Control and Prevention (CDC) temporarily halting evictions for nonpayment of rent on September 4, 2020, which has since been extended until June 30, 2021.

As households continue to struggle with income loss and accumulating back rent, the threat of evictions has grown considerably. The Household Pulse Survey Phase 2, found that the week of April 14, 2021, over 6 million renter households were behind on their rent payments and another 4.2 million were not confident they would be able to make their payment on time. 2.9 million renter households report eviction was likely or somewhat likely in the next two months. Housing instability caused by formal and informal evictions has significant economic, physical and mental consequences. Research has found eviction protection services, including services such as legal representation, housing navigators, education and outreach, and assistance completing the legal forms to respond to an eviction notice, reduce evictions and increase housing stability for low-income renters. The Eviction Protection Grant Program will provide $20 million to support eviction protection services in areas with high rates of eviction or probable eviction to low-income tenants at risk of or subject to eviction.

The emergency review is needed to fulfill Congress' intent for the Eviction Protection grant program to expeditiously provide funds to meet the need for which Congress appropriated them and reduce the harm these tenants will face without access to eviction protection services.

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna Guido,
Department Reports Management Officer, Office of the Chief Information Officer.

[FR Doc. 2021-12357 Filed 6-11-21; 8:45 am]

BILLING CODE 4210-67-P